DEPARTMENT OF AGRICULTURE

Submission for OMB Review; Comment Request

November 3, 2005.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Forest Service

Title: Evaluating Community Knowledge, Beliefs, Attitudes, and Preference Concerning Fire and Fuels Management in Southwestern Forest, Woodland and Grassland Ecosystems.

OMB Control Number: 0596-NEW.

Summary of Collection: Although fire is increasingly recommended as a fuels reduction tool on both public and private lands, controversy often inhibits its use. Insufficient communication and understanding between land managers and the public frequently contribute to these difficulties. If managers do not have adequate information concerning public attitudes and action concerning wildfire risk reduction behavior, then mangers may not make well-informed decisions concerning appropriate communication techniques and needed public education information. In order to design and implement successful, socially acceptable fire and fuels management policies and programs, managers need to better understand the public's knowledge, attitudes and practices concerning wildfire.

Need and Use of the Information: The Forest Service will collect information from the general public residing in Arizona and New Mexico. The information will be collected using a mail survey to randomly selected households. The collected information will include: (1) Attitudes and preferences toward wildfire and fire management alternatives for public lands, (2) risk reduction behaviors that homeowners and individual have undertaken to minimize wildfire risk, (3) sources of information regarding wildfires and wildfires risk reduction, and (4) socioeconomic information.

Description of Respondents: Individuals or households.

Number of Respondents: 2,000.

Frequency of Responses: Reporting: On occasion.

Total Burden Hours: 667.

Ruth Brown,
Departmental Information Collection Clearance Officer.

[FR Doc. 05-22285 Filed 11-8-05; 8:45 am]

BILLING CODE 3410-11-P